DEPARTMENT OF LABOR

Employment and Training Administration

[TA-W-42,107]

Bath Unlimited, Inc., a Division of Masco Corporation Doing Business as Melard Manufacturing Corporation, Passaic, New Jersey; Amended Certification Regarding Eligibility To Apply for Worker Adjustment Assistance

In accordance with Section 223 of the Trade Act of 1974 (19 U.S.C. 2273) the Department of Labor issued a Certification of Eligibility to Apply for Worker Adjustment Assistance on October 4, 2002, applicable to workers of Bath Unlimited, Inc., a Division of MASCO Corp., Passaic, New Jersey. The notice was published in the Federal Register on November 5, 2002 (67 FR 67418).

At the request of the State agency, the Department reviewed the certification for workers of the subject firm. The workers are engaged in the production of showerhead and plumbing repair products.

New information provided by the State shows that Bath Unlimited is doing business as Melard Manufacturing Corporation as of January 1, 2002. Information also shows that workers separated from employment at the subject firm had their wages reported under a separate unemployment insurance (UI) tax account for Melard Manufacturing Corporation.

Accordingly, the Department is amending the certification to properly reflect this matter.

The intent of the Department's certification is to include all workers of Bath Unlimited, Inc. who were adversely affected by imports. The amended notice applicable to TA-W-42,107 is hereby issued as follows:

“All workers of Bath Unlimited, Inc., a division of MASCO Corp., doing business as Melard Manufacturing Corporation, Passaic, New Jersey, who became totally or partially separated from employment on or after August 28, 2001, through October 4, 2004, are eligible to apply for adjustment assistance under Section 223 of the Trade Act of 1974.”

Signed at Washington, DC this 13th day of January 2003.
Linda G. Poole,
Certifying Officer, Division of Trade Adjustment Assistance.

[FR Doc. 03-2865 Filed 2-5-03; 8:45 am]

BILLING CODE 4510-30-P